FARM CREDIT ADMINISTRATION

Farm Credit Administration Board; Sunshine Act; Regular Meeting

AGENCY: Farm Credit Administration.

SUMMARY: Notice is hereby given, pursuant to the Government in the Sunshine Act, of the regular meeting of the Farm Credit Administration Board (Board).

DATE AND TIME: The regular meeting of the Board will be held at the offices of the Farm Credit Administration in McLean, Virginia, on April 11, 2013, from 9:00 a.m. until such time as the Board concludes its business.

FOR FURTHER INFORMATION CONTACT: Dale L. Aultman, Secretary to the Farm Credit Administration Board, (703) 883-4009, TTY (703) 883-4056.

ADDRESSES: Farm Credit Administration, 1501 Farm Credit Drive, McLean, Virginia 22102-5090.

SUPPLEMENTARY INFORMATION: Parts of this meeting of the Board will be open to the public (limited space available) and parts will be closed to the public. In order to increase the accessibility to Board meetings, persons requiring assistance should make arrangements in advance. The matters to be considered at the meeting are:

Open Session

Approval of Minutes

• March 14, 2013.

New Business

• Adjusting Civil Money Penalties for Inflation—Final Rule.

• Quarterly Report on Farm Credit System Condition.

• FCS Building Association Auditor's Report on 2012 Financial Audit.

Executive Session ¹

¹ Session Closed-Exempt pursuant to 5 U.S.C. 552b(c)(2).

• Meeting with Auditors.

Closed Session ²

²Session Closed-Exempt pursuant to 5 U.S.C. 552b(c)(8) and (9).

• Office of Examination Supervisory and Oversight Activities Report

Dated: March 29, 2013.
Dale L. Aultman,
Secretary, Farm Credit Administration Board.

[FR Doc. 2013-07750 Filed 3-29-13; 4:15 pm]

BILLING CODE 6705-01-P